DEPARTMENT OF ENERGY

Federal Energy Regulatory Commission

[Docket No. EL19-42-000]

City Utilities of Springfield, Missouri; Notice of Petition for Limited Waiver

Take notice that on February 8, 2019, pursuant to Rule 207(a)(5) of the Federal Energy Regulatory Commission's (Commission) Rules of Practice and Procedure, 18 CFR 385.207(a)(5) and section 554(e) of the Administrative Procedure Act (5 U.S.C. 554(e)), City Utilities of Springfield, Missouri (Petitioner) filed a petition for the Commission to authorize a limited, one-time waiver of the financial security requirement set forth in Section 4.0 of the pro forma Sponsored Upgrade Agreement appearing as Schedule 1 to Attachment J of the Southwest Power Pool, Inc.'s Open Access Transmission Tariff, all as more fully explained in the petition.

Any person desiring to intervene or to protest in the above proceeding must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Petitioner. In reference to filings initiating a new proceeding, interventions or protests submitted on or before the comment deadline need not be served on persons other than the Petitioner.

The Commission encourages electronic submission of protests and interventions in lieu of paper, using the FERC Online links at http://www.ferc.gov. To facilitate electronic service, persons with internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE, Washington, DC 20426.

The filings in the above proceedings are accessible in the Commission's eLibrary system by clicking on the appropriate link in the above list. They are also available for review in the Commission's Public Reference Room in Washington, DC. There is an eSubscription link on the website that enables subscribers to receive email notification when a document is added to a subscribed docket(s). For assistance with any FERC Online service, please email FERCOnlineSupport@ferc.gov or call (866) 208-3676 (toll free). For TTY, call (202) 502-8659.

Comment Date: 5:00 p.m. Eastern Time on March 1, 2019.

Dated: February 12, 2019.
Kimberly D. Bose,
Secretary.

[FR Doc. 2019-02718 Filed 2-19-19; 8:45 am]

BILLING CODE 6717-01-P